ENVIRONMENTAL PROTECTION AGENCY

[EPA-HQ-OAR-2020-0415; FRL-12559-01-OMS]

Agency Information Collection Activities; Submission to the Office of Management and Budget for Review and Approval; Comment Request; Implementation of the 8-Hour National Ambient Air Quality Standards for Ozone (Renewal)

AGENCY: Environmental Protection Agency (EPA).

ACTION: Notice.

SUMMARY: The Environmental Protection Agency (EPA) has submitted an information collection request (ICR), Implementation of the 8-hour National Ambient Air Quality Standards for Ozone (EPA ICR Number 2347.05, OMB Control Number 2060-0695) to the Office of Management and Budget (OMB) for review and approval in accordance with the Paperwork Reduction Act. This is a proposed extension of the ICR, which is currently approved through January 31, 2025. Public comments were previously requested, via the Federal Register, on August 15. 2024 during a 60-day comment period. This notice allows for an additional 30 days for public comments.

DATES: Comments may be submitted on or before February 18, 2025.

ADDRESSES: Submit your comments, referencing Docket ID Number EPA-HQ-OAR-2020-0415, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Mr. Francis Oggeri, Office of Air Quality Planning and Standards, U.S. Environmental Protection Agency, 1200 Pennsylvania Ave. NW, Washington, DC 20460; telephone number: (919) 541-3255; email address: oggeri.francis@epa.gov.

SUPPLEMENTARY INFORMATION: This is a proposed extension of the ICR, which is currently approved through January 31, 2025. An agency may not conduct or sponsor and a person is not required to respond to a collection of information unless it displays a currently valid OMB control number. Public comments were previously requested via the Federal Register on August 15, 2024 during a 60-day comment period. This notice allows for an additional 30 days for public comments. Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: This ICR that estimates the burden on states for implementation-related activities associated with the 2008 and 2015 ozone NAAQS. States with nonattainment areas for the 2008 and 2015 ozone NAAQS are implementing the NAAQS under the CAA and implementation regulations issued for that NAAQS. The state activities include, but are not limited to, developing and submitting attainment demonstrations, reasonable further progress plans, and reasonably available control technology (RACT) determinations. This ICR renewal estimates the burden for states to meet the ongoing planning requirements that apply to their remaining nonattainment areas for the 2008 and 2015 NAAQS. These requirements primarily affect 2015 ozone nonattainment areas that may fail to attain the NAAQS by their attainment date during this period and be reclassified to a higher classification with new SIP revisions required from the states. In addition, this ICR renewal includes burden estimates for state and EPA activities related to implementing second Maintenance Plans for the 2008 8-hour ozone standard.

The estimates included in this ICR renewal include both the state burden to develop and submit attainment plans to meet the requirements prescribed in CAA sections 110 and Part D, subparts 1 and 2 of Title I as interpreted by EPA's SIP requirements rules. An ozone NAAQS attainment plan contains state rules and other measures designed to improve air quality and achieve the NAAQS by the deadlines established under the CAA. It also must address several additional CAA requirements related to demonstrating timely attainment and contain contingency measures if the nonattainment area does not achieve reasonable further progress throughout the attainment period or if the area does not attain the NAAQS by its attainment date. States that have attained by the applicable attainment date may be eligible to submit a redesignation request and maintenance plan to receive a redesignation from “nonattainment to “attainment”.

Form Numbers: None.

Respondents/affected entities: State and Local Governments.

Respondent's obligation to respond: Mandatory.

Estimated number of respondents: 67 (total).

Frequency of response: Once per triggering event, e.g., an air agency is required to revise and submit a SIP revision when the area is designated nonattainment or reclassified to a higher classification or if it is in an OTR member state to determine if RACT is satisfied by the previously approved state SIP. An air agency is also required to submit a second 10-year maintenance plan for maintenance areas or portions of maintenance areas for the 2008 ozone NAAQS.

Total estimated burden: 53,667 hours (per year). Burden is defined at 5 CFR 1320.03(b).

Total estimated cost: $4,540,200 (per year), which includes $0 annualized capital or operation & maintenance costs.

Changes in the Estimates: There is a decrease in the annual burden of 65,466 hours below the 119,133 hours estimated from the last approved ICR for 8-hour ozone NAAQS implementation. The primary reason for this decrease is that the previous ICR accounted for some respondents continuing to submit information for the 2008 NAAQS, respondents continuing to report on the revoked 1997 NAAQS, and respondents submitting initial information for all 52 nonattainment areas for the 2015 NAAQS. The estimates provided in this supporting statement differ from the prior 2015/2008/1997 combined NAAQS estimate due to decreases resulting from: the total state respondents reduced from 96 NAAs for the 2015/2008/1997 ozone NAAQS to 66 NAAs for the combined 2008 and 2015 ozone NAAQS, removal of the burden estimate for the states in the Ozone Transport Regions to certify the current state SIPs meet CAA section 184(b)(1)(B) RACT requirements; no 1997 8-hour ozone second maintenance plans due during the next three years; no 2008 8-hour ozone NAAQS needing to be reclassified to a higher class.

Courtney Kerwin,
Director, Regulatory Support Division.

[FR Doc. 2025-01037 Filed 1-15-25; 8:45 am]

BILLING CODE 6560-50-P